DEPARTMENT OF HEALTH AND HUMAN SERVICES

National Institutes of Health

National Institute of Mental Health; Amended Notice of Meeting

Notice is hereby given of a change in the meeting of the National Institute of Mental Health Special Emphasis Panel, June 19, 2003, 11 a.m. to June 19, 2003, 12 p.m. National Institutes of Health, Neuroscience Center, 6001 Executive Boulevard, Rockville, MD, 20852, which was published in the Federal Register on June 18, 2003, 68 FR 36569.

The meeting will be held on July 9, 2003 and the meeting time and place remain the same. the meeting is closed to the public.

Dated: June 25, 2003.
LaVerne Y. Stringfield,
Director, Office of Federal Advisory Committee Policy.

[FR Doc. 03-16757 Filed 7-1-03; 8:45 am]

BILLING CODE 4140-01-M